DEPARTMENT OF EDUCATION

Office of Innovation and Improvement; Overview Information; Full-Service Community Schools Program; Notice Inviting Applications for New Awards for Fiscal Year (FY) 2010

Catalog of Federal Domestic Assistance (CFDA) Number: 84.215J.

Applications Available: June 8, 2010.

Deadline of Notice of Intent to Apply: June 23, 2010.

Date of Pre-Application Meeting: June 17, 2010.

Deadline for Transmittal of Applications: July 23, 2010.

Deadline for Intergovernmental Review: September 21, 2010.

Full Text of Announcement

I. Funding Opportunity Description

Purpose of Program: The Fund for the Improvement of Education (FIE), which is authorized by section 5411 of the Elementary and Secondary Education Act of 1965, as amended (ESEA), supports nationally significant programs to improve the quality of elementary and secondary education at the State and local levels and help all children meet challenging academic content and academic achievement standards. The Full-Service Community Schools (FSCS) program, which is funded under FIE, encourages coordination of academic, social, and health services through partnerships between (1) Public elementary and secondary schools; (2) the schools' local educational agencies (LEAs); and (3) community-based organizations, nonprofit organizations, and other public or private entities. The purpose of this collaboration is to provide comprehensive academic, social, and health services for students, students' family members, and community members that will result in improved educational outcomes for children. The Full-Service Community Schools program is a “place-based” program (see http://www.whitehouse.gov/omb/assets/memoranda_fy2009/m09-28.pdf) that can leverage investments by focusing resources in targeted places, drawing on the compounding effects of well-coordinated actions. Place-based approaches can also streamline otherwise redundant and disconnected programs.

Program Authority: 20 U.S.C. 7243-7243b.

Priorities:

These priorities are from the notice of final priorities, selection criteria, definitions, and requirements for this program, published elsewhere in this issue of the Federal Register.

Absolute Priority: For FY 2010 and any subsequent year in which we make awards from the list of unfunded applications, this priority is an absolute priority. Under 34 CFR 75.105(c)(3) we consider only applications that meet this priority.

This priority is:

Projects That Establish or Expand Full-Service Community Schools

Background: In order for children to be ready and able to learn, they need academic, social, and health supports. The National Research Council has cited the presence of these supports as important predictors of future adult success.¹ Students' needs are better met when academic, social, and health services are delivered to them in a well-coordinated, results-focused, and integrated manner.

¹ Committee on Community-Level Programs for Youth (2002). Community Programs to Promote Youth Development. Edited by J.S. Eccles and J. Gootman. Washington, DC: National Research Council, Institute of Medicine, and National Academy Press.

A full-service community school, as defined in this notice, is a public elementary or secondary school that works with its local educational agency and community-based organizations, nonprofit organizations, and other public or private entities to provide a coordinated and integrated set of comprehensive academic, social, and health services that respond to the needs of its students, students' family members, and community members, as defined in this notice. These results-focused partnerships, as defined in this notice, are based on identified needs and organized around a set of mutually defined results and outcomes.

Full-service community schools recognize that schools do not operate in total isolation from the communities in which they are located. Community challenges such as poverty, violence, poor physical health, and family instability can become education issues when left unaddressed. When schools and community partners collaborate to address these issues and align their resources to achieve common results, children are more likely to succeed academically, socially, and physically. Full-service community schools seek to address these challenges by connecting students, students' family members, and community members with available services and opportunities, creating the conditions for students to achieve in school and beyond.

The Department recognizes that in order for students and the members of the communities in which they reside to thrive, their schools must be effective. Effective schools create learning environments that support student academic success and foster student engagement. When characterized by stable leadership and a strong instructional program, full-service community schools have been associated with improved attendance and student achievement,² increased family and community engagement,³ and improved student behavior and youth development.⁴ In addition, system-wide support should be present for developing, implementing, and sustaining effective full-service community schools. There is greater potential impact when full-service community schools have a strong infrastructure in place to support sustaining the overall effort and expanding the number of FSCS sites throughout an LEA.

² Krenichyn, Kira, Helene Clark, and Lymari Benitez (2008). Children's Aid Society 21st Century Community Learning Centers After-School Programs at Six Middle Schools: Final Report of a Three-Year Evaluation, 2004-2007. New York: ActKnowledge.

³ Quinn, Jane, and Joy Dryfoos (2009). Freeing teachers to teach: Students in full-service community schools are ready to learn. American Educator, Summer 2009:16-21.

⁴ Whalen, Samuel (2007). Three Years Into Chicago's Community Schools Initiative (CSI): Progress, Challenges, and Emerging Lessons. Chicago: University of Illinois at Chicago. Retrieved April 9, 2010, from http://www.aypf.org/documents/CSI_ThreeYearStudy.pdf.

In this and other programs, it is imperative that we pay close attention to our most educationally disadvantaged, persistently lowest-achieving schools, as defined in this notice. These are the schools that continue to challenge our country's system of public education and fail to adequately educate our Nation's youth. Persistently lowest-achieving schools can be transformed into schools that enable all students to meet high standards when these schools implement school intervention models, as defined in this notice, that are aligned with a well-coordinated system of comprehensive academic, social, and health services. The Department believes that the full-service community school model can create the needed synergy to bolster efforts to transform persistently lowest-achieving schools into schools that enable all students to meet high standards.

This absolute priority supports projects that propose to establish or expand (through collaborative efforts among local educational agencies, community-based organizations, nonprofit organizations, and other public and private entities) full-service community schools, as defined in this notice, offering a range of services. To meet this priority, an applicant must propose a project that is based on scientifically based research—as defined in section 9101(37) of the ESEA—and that establishes or expands a full-service community school. Each applicant must propose to provide at least three of the following eligible services at each participating full-service community school included in its proposed project:

1. High-quality early learning programs and services.

2. Remedial education, aligned with academic supports and other enrichment activities, providing students with a comprehensive academic program.

3. Family engagement, including parental involvement, parent leadership, family literacy, and parent education programs.

4. Mentoring and other youth development programs.

5. Community service and service learning opportunities.

6. Programs that provide assistance to students who have been chronically absent, truant, suspended, or expelled.

7. Job training and career counseling services.

8. Nutrition services and physical activities.

9. Primary health and dental care.

10. Activities that improve access to and use of social service programs and programs that promote family financial stability.

11. Mental health services.

12. Adult education, including instruction of adults in English as a second language.

Competitive Preference Priority: For FY 2010 and any subsequent year in which we make awards from the list of unfunded applicants from this competition, this priority is a competitive preference priority. Under 34 CFR 75.105(c)(2)(i) we award an additional 2 points to an application, depending on how well the application meets this priority.

This priority is:

Strategies That Support Turning Around Persistently Lowest-Achieving Schools

We give competitive preference to applications that propose to serve persistently lowest-achieving schools, as defined in this notice, and are currently implementing or plan to implement one of three school intervention models, as defined in this notice, to enable these schools to become full-service community schools. Applicants seeking to receive this priority must describe (a) The school intervention model that would be or is being implemented to improve academic outcomes for students; (b) the academic, social, and/or health services that would be provided and why; and (c) how the academic, social and/or health services provided would align with and support the school intervention model implemented.

Application Requirements:

The following requirements are from the NFP for this program, published elsewhere in this issue of the Federal Register.

Background: Children, particularly those living in poverty, need a variety of family and community resources, including intellectual, social, physical, and emotional supports, to have the opportunity to attain academic success. Many children live in communities that lack not only high-performing schools, but also the supports needed to be ready and able to learn when they start school. School-community partnerships can be key strategies for providing resources to these individual students. A variety of organizations can help provide the missing resources for children living in poverty and, therefore, begin to transform struggling schools and communities. These organizations can be public or private, community-based or faith-based, governmental or non-governmental, or a combination thereof, but they must work together with clearly articulated and mutually agreed upon goals, target populations, roles, and desired results and outcomes. Partnerships between schools and organizations may take many forms and should be based on overlapping vital interests. For example, a telecommunications firm might provide internships to high school students to foster real-world connections to the school's science curriculum. Or, a local police department might provide mentors for troubled youth in order to keep students in school. Such results-focused partnerships, as defined in this notice, can transform the capacity of both the school and its partners to better serve students' and families' diverse needs and improve their outcomes.

A full-service community school coordinator, as defined in this notice, is often central to the effective facilitation of these partnerships, as well as the coordination and integration of services, programs, supports, and available opportunities. The FSCS coordinator's main responsibility is to work closely and plan jointly with the school's principal to drive, develop, and implement the community school effort. The FSCS coordinator convenes a cross-section of school staff, parents, and community organizations to develop systems with which to coordinate new and existing programs that respond to the needs of the school and community through ongoing needs assessments. The FSCS coordinator adds capacity to the principal's leadership of the school and is essential to ensuring that all programs, supports, services, opportunities, and the mutually defined results and outcomes are fully aligned.

In order to receive funding, an applicant must include the following in its application:

1. A description of the needs of the students, students' family members, and community members to be served, including information about (a) The basic demographic characteristics of the students, students' family members, and community members; (b) the magnitude or severity of the needs to be addressed by the project; and (c) the extent to which specific gaps or weaknesses in services, infrastructures, or opportunities have been identified and will be addressed by the proposed project.

2. A list of entities that will partner with the applicant to coordinate existing services or to provide additional services that promote successful student, family, and community results and outcomes. The applicant must describe how existing resources and services will be coordinated and integrated with new resources and services.

3. A memorandum of understanding between the applicant and all partner entities, describing the role each partner will assume, the services or resources each one will provide, and the desired results and outcomes.

4. A description of the organizational capacity of the applicant to provide and coordinate eligible services at a full-service community school that will support increased student achievement. The description must include the applicant's experience partnering with the target school(s) and other partner entities; examples of how the applicant has responded to challenges working with these schools and entities; lessons learned from similar work or previous community-school efforts, and a description of the existing or proposed infrastructure to support the implementation and sustainability of the full-service community school. Applicants must also describe their past experience (a) building relationships and community support to achieve results; and (b) collecting and using data for decision-making and continuous improvement.

5. A comprehensive plan based on results-focused partnerships, as defined in this notice, that includes a description of well-aligned goals, services, activities, objectives, performance measures, and project results and outcomes. In addition, the plan must include the estimated total number of individuals to be served, disaggregated by the number of students, students' family members, and community members, and the type and frequency of services to be provided to each group.

6. A list and description of the eligible services to be provided or coordinated by the applicant and the partner entities; a description of the applicant's approach to integrating new and existing programs and services with the school's (or schools') core instructional program; and identification of the intended results and outcomes.

7. A description of how the applicant will use data to drive decisionmaking and measure success. This includes a description of the applicant's plans to monitor and assess outcomes of the eligible services provided and coordinated by the FSCS project, as well as the number of individuals served, while complying with Federal, State, and other privacy laws and requirements.

8. A description of the roles and responsibilities of a full-time FSCS coordinator and the proposed approach to ensuring that the FSCS coordinator engages in joint planning with the principal and key community stakeholders to guide the proposed full-service community school.

Applications that do not meet these requirements will not be read and will not be considered for funding.

Definitions: The following definitions are from the NFP for this program, published elsewhere in this issue of the Federal Register.

These definitions are:

Community member means an individual who is not a student or a student's family member, as defined in this notice, but who lives in the community served by the FSCS grant.

Full-service community school means a public elementary or secondary school that works with its local educational agency and community-based organizations, nonprofit organizations, and other public or private entities to provide a coordinated and integrated set of comprehensive academic, social, and health services that respond to the needs of its students, students' family members, and community members. In addition, a full-service community school promotes family engagement by bringing together many partners in order to offer a range of supports and opportunities for students, students' family members, and community members.

Full-service community school coordinator means an individual who works closely and plans jointly with the school's principal to drive the development and implementation of the FSCS effort and who, in that capacity, facilitates the partnerships and coordination and integration of service delivery.

Persistently lowest-achieving school means, as determined by the State under the School Improvement Grants program (pursuant to the final requirements for the School Improvement Grants program, 74 FR 65618, published in the Federal Register on December 10, 2009)—

(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

Results-focused partnership means a partnership between a full-service community school and one or more nonprofit organizations (including community-based organizations) that is based on identified needs and organized around a set of mutually defined results and outcomes for increasing student success and improving access to family and community services.

School intervention model means one of the following three specific interventions described in the final requirements for the School Improvement Grants program, 74 FR 65618, published in the Federal Register on December 10, 2009 and summarized as follows:

(1) Turnaround model, which includes, among other actions, replacing the principal and rehiring no more than 50 percent of the school's staff, adopting a new governance structure, and implementing an instructional program that is research-based and vertically aligned from one grade to the next as well as aligned with a State's academic standards.

(2) Restart model, in which a local educational agency converts the school or closes and reopens it under the management of a charter school operator, a charter management organization, or an education management organization that has been selected through a rigorous review process.

(3) Transformation model, which addresses four specific areas critical to transforming persistently lowest-achieving schools: (i) Replace the principal and take steps to increase teacher and school effectiveness; (ii) institute comprehensive instructional reforms; (iii) increase learning time and create community-oriented schools; (iv) provide operational flexibility and sustained support.

Student means a child enrolled in a public elementary or secondary school served by the FSCS grant.

Student's family member means the student's parents/guardians, siblings, and any other related individuals living in the same household as the student and not enrolled in the school served by the FSCS grant.

Program Authority: 20 U.S.C. 7243-7243b.

Applicable Regulations: (a) The Education Department General Administrative Regulations (EDGAR) in 34 CFR parts 74, 75, 77, 79, 80, 81, 82, 84, 85, 86, 97, 98, and 99. (b) The notice of final priorities, requirements, definitions, and selection criteria (NFP) for this program, published elsewhere in this issue of the Federal Register.

Note: The regulations in 34 CFR part 79 apply to all applicants except federally recognized Indian tribes.

Note: The regulations in 34 CFR part 86 apply to institutions of higher education only.

II. Award Information

Type of Award: Discretionary grants.

Estimated Available Funds: $5,000,000.

Estimated Range of Awards: $275,000-$500,000.

Estimated Average Size of Awards: $415,000.

Maximum Award: The maximum award amount is $500,000 per year. We may choose not to further consider or review applications with budget requests for any 12-month budget period that exceed this amount, if we conclude, during our initial review of the application, that the proposed goals and objectives cannot be obtained with the specified maximum amount.

Estimated Number of Awards: 8-12.

Note: The Department is not bound by any estimates in this notice.

Project Period: Up to 60 months.

III. Eligibility Information

1. Eligible Applicants: To be eligible for a grant under this competition, an applicant must be a consortium consisting of a local educational agency and one or more community-based organizations, nonprofit organizations, or other public or private entities. Consortia must comply with the provisions governing group applications in 34 CFR 75.127 through 75.129 of EDGAR.

2. Cost Sharing or Matching: To be eligible for an award, a portion of the services provided by the applicant must be supported through non-Federal contributions, either in cash or in-kind donations. The applicant must propose the amount of cash or in-kind resources to be contributed for each year of the grant.

3. Planning: Interagency collaborative efforts are highly complex undertakings that require extensive planning and communication among partners and key stakeholders. Partnerships should be based on identified needs and organized around a set of mutually-defined results and outcomes. Applicants under this program may devote funds received during the first year of the project period to comprehensive program planning, establishing results-focused partnerships, and capacity building. Funding received by grantees during the remainder of the project period must be devoted to program implementation.

IV. Application and Submission Information

1. Address to Request Application Package:

You can obtain an application package via the Internet or from the Education Publications Center (ED Pubs). To obtain a copy via the Internet, use the following address: http://www2.ed.gov/programs/communityschools/applicant.html.

To obtain a copy from ED Pubs, write, fax, or call the following: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application from ED Pubs, be sure to identify this program or competition as follows: CFDA number 84.215J.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. This e-mail notification should be sent to FSCS@ed.gov with “INTENT TO APPLY” in the subject line by June 23, 2010. Applicants that fail to provide this e-mail notification may still apply for funding.

Page Limit: The application narrative (Part III of the application) is where you, the applicant, address the selection criteria that reviewers use to evaluate your application.

You should limit the application narrative [Part III] to the equivalent of no more than 35 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

3. Submission Dates and Times:

Applications Available: June 8, 2010.

Deadline for Notice of Intent to Apply: June 23, 2010.

Date of Pre-Application Meeting: The Department will hold a pre-application meeting for prospective applicants on June 17, 2010 from 1:30 p.m. to 3:30 p.m. at the U.S. Department of Education, Barnard Auditorium, 400 Maryland Avenue, SW., Washington, DC. Interested parties are invited to participate in this meeting to discuss the purpose of the FSCS program, absolute and competitive priorities, application requirements, definitions, selection criteria, application content, submission requirements, and reporting requirements. Interested parties may participate in this meeting either by conference call or in person. This site is accessible by Metro on the Blue, Orange, Green, and Yellow lines at the Seventh Street and Maryland Avenue exit of the L'Enfant Plaza station.

Individuals interested in attending this meeting must register no later than June 11, 2010 by e-mailing their name, organization, and contact information with “PRE-APPLICATION MEETING” in the subject line to FSCS@ed.gov. There is no registration fee for attending this meeting. For further information contact Jill Staton, U.S. Department of Education, Office of Innovation and Improvement, room 4W245, 400 Maryland Avenue, SW., Washington, DC 20202. Telephone: (202) 401-2091 or by e-mail: FSCS@ed.gov.

Assistance to Individuals With Disabilities at the Pre-Application Meeting

The meeting site is accessible to individuals with disabilities. If you will need an auxiliary aid or service to participate in the meeting (e.g., interpreting service, assistive listening device, or materials in an alternate format), notify the contact person listed in this notice at least two weeks before the scheduled meeting date. Although we will attempt to meet a request we receive after that date, we may not be able to make available the requested auxiliary aid or service because of insufficient time to arrange it.

Deadline for Transmittal of Applications: July 23, 2010.

Applications for grants under this competition must be submitted electronically using the Electronic Grant Application System (e-Application) accessible through the Department's e-Grants site. For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: September 21, 2010.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice.

6. Data Universal Numbering System Number, Taxpayer Identification Number, and Central Contractor Registry: To do business with the Department of Education, (1) You must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements:

Applications for grants under this competition must be submitted electronically unless you qualify for an exception to this requirement in accordance with the instructions in this section.

a. Electronic Submission of Applications.

Applications for grants under the Full-Service Community Schools program—CFDA Number 84.215J must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m. Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because--

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Jill Staton, U.S. Department of Education, 400 Maryland Avenue, SW., room 4W245, Washington, DC 20202. FAX: (202) 205-5630.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.215J), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address:

U.S. Department of Education, Application Control Center, Attention: (CFDA Number 84.215J), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this competition are from the NFP for this program, published elsewhere in this issue of the Federal Register. These selection criteria are listed in the application package as well as this notice. We may apply one or more of these criteria in any year in which this program is in effect. The maximum score for all the selection criteria is 100 points. The maximum score for each criterion is indicated in parentheses with the criterion. The selection criteria are as follows:

(a) Quality of the Project Design (up to 25 points).

(1) The Secretary considers the quality of the design of the proposed project.

(2) In determining the quality of the design of the proposed project, the Secretary considers the extent to which the proposed project consists of a comprehensive plan that includes a description of—

(i) The project objectives;

(ii) The students, students' family members, and community to be served, including information about the demographic characteristics and needs of the students, students' family members, and other community members and the estimated number of individuals to be served; and

(iii) The eligible services (as listed in the Absolute Priority described elsewhere in this notice) to be provided or coordinated by the applicant and its partner entities, how those services will meet the needs of students, students' family members, and other community members, and the frequency with which those services will be provided to students, students' family members, and community members.

(b) Adequacy of Resources (up to 20 points).

(1) The Secretary considers the adequacy of resources for the proposed project.

(2) In determining the adequacy of resources for the proposed project, the Secretary considers the following factors:

(i) The adequacy of support, including facilities, equipment, supplies, and other resources to be provided by the applicant and consortium partners;

(ii) The relevance and demonstrated commitment of each partner in the proposed project to the implementation and success of the project; and

(iii) The extent to which costs are reasonable in relation to the number of persons to be served and services to be provided.

(c) Quality of the Management Plan (up to 25 points).

(1) The Secretary considers the quality of the management plan for the proposed project.

(2) In determining the quality of the management plan for the proposed project, the Secretary considers the following factors:

(i) The extent to which the proposed project consists of a comprehensive plan that includes a description of planning, coordination, management, and oversight of the eligible services (as listed in the Absolute Priority described elsewhere in this notice) to be provided at each school to be served, including the role of the school principal, the FSCS coordinator, partner entities, parents, and community members;

(ii) The qualifications, including relevant training and experience, of the FSCS coordinator and other key project personnel including prior performance of the applicant on similar or related efforts; and

(iii) The extent to which the time commitments of the project director, the FSCS coordinator, and other key project personnel are appropriate and adequate to meet the objectives of the proposed project.

(d) Quality of Project Services (up to 20 points).

(1) The Secretary considers the quality of the services to be provided by the proposed project.

(2) In determining the quality of the project services, the Secretary considers the following:

(i) The extent to which the services to be provided by the proposed project reflect up-to-date knowledge from research and effective practice; and

(ii) The likelihood that the services to be provided by the proposed project will lead to improvements in the achievement of students as measured against rigorous academic standards.

(e) Quality of the Project Evaluation (up to 10 points).

(1) The Secretary considers the quality of the evaluation to be conducted of the proposed project.

(2) In determining the quality of the evaluation, the Secretary considers the extent to which the proposed evaluation—

(i) Sets out methods of evaluation that include the use of objective performance measures that are clearly related to the intended outcomes of the project and will produce quantitative and qualitative data to the extent possible;

(ii) Will provide timely and valid information on the management, implementation, or efficiency of the project; and

(iii) Will provide guidance on or strategies for replicating or testing the project intervention in multiple settings.

Factors Applicants May Wish To Consider in Developing an Evaluation Plan

The quality of the evaluation plan is one of the selection criteria by which applications in this competition will be judged. A strong evaluation plan should be included in the application narrative and should be used, as appropriate, to shape the development of the project from the beginning of the project period. The plan should include benchmarks to monitor progress toward specific project objectives and also outcome measures to assess the impact on teaching and learning or other important outcomes for project participants. More specifically, the plan should identify the individual or organization that has agreed to serve as evaluator for the project and describe the qualifications of that evaluator. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and about effective strategies for replication in other settings. Applicants are encouraged to devote an appropriate level of resources to project evaluation.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Secretary has established one performance indicator for this program: The percentage of individuals targeted for services who receive services during each year of the project period. All grantees will be required to submit an annual performance report documenting their contribution in assisting the Department in measuring the performance of the program against this indicator, as well as performance on project-specific indicators.

VII. Agency Contact

For Further Information Contact: Jill Staton, U.S. Department of Education, 400 Maryland Avenue, SW., room 4W245, Washington, DC 20202. Telephone: (202) 401-2091 or by e-mail: FSCS@ed.gov. If you use a TDD, call the FRS, toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 3, 2010.
James H. Shelton, III,
Assistant Deputy Secretary for Innovation and Improvement.

[FR Doc. 2010-13781 Filed 6-7-10; 8:45 am]

BILLING CODE 4000-01-P